DEPARTMENT OF DEFENSE

Office of the Secretary

Amendment of Department of Defense Federal Advisory Committees—Defense Policy Board

AGENCY: Department of Defense (DoD).

ACTION: Amendment of Federal Advisory Committee.

SUMMARY: The DoD is publishing this notice to announce that it is amending the Defense Policy Board (“the Board”).

FOR FURTHER INFORMATION CONTACT: Jim Freeman, Advisory Committee Management Officer for the Department of Defense, 703-692-5952.

SUPPLEMENTARY INFORMATION: The Board is being amended in accordance with the Federal Advisory Committee Act (FACA) (5 U.S.C., app.) and 41 CFR 102-3.50(d). The charter and contact information for the Board's Designated Federal Officer (DFO) are found at https://www.facadatabase.gov/FACA/apex/FACAPublicAgencyNavigation.

The Board provides the Secretary of Defense independent advice and recommendations on matters concerning defense policy. Specifically, the Board will focus on: (a) Issues central to strategic DoD planning; (b) policy implications of U.S. force structure and force modernization on DoD's ability to execute U.S. defense strategy; (c) U.S. regional defense policies; (d) and any other topics raised by the Secretary of Defense, the Deputy Secretary of Defense, or the Under Secretary of Defense for Policy.

The Board is composed of not more than 25 members who have distinguished backgrounds in defense and national security affairs. These members will come from varied backgrounds including prior government or military service, multinational corporations, academia, or other non-government organizations. Individual members will be appointed according to DoD policy and procedures, and serve a term of service of one-to-four years with annual renewals. One member will be appointed as Chair of the Board. No member, unless approved according to DoD policy and procedures, may serve more than two consecutive terms of service on the Board, or serve on more than two DoD Federal advisory committees at one time.

Members of the Board who are not full-time or permanent part-time Federal civilian officers or employees, or active duty members of the Uniformed Services, will be appointed as experts or consultants pursuant to 5 U.S.C. 3109 to serve as special government employee members. Board members who are full-time or permanent part-time Federal civilian officers or employees, or active duty members of the Uniformed Services, will be appointed pursuant to 41 CFR 102-3.130(a) to serve as regular government employee members.

All members of the Board are appointed to provide advice based on their best judgment without representing any particular point of view and in a manner that is free from conflict of interest. Except for reimbursement of official Board-related travel and per diem, members serve without compensation.

The public or interested organizations may submit written statements to the Board membership about the Board's mission and functions. Written statements may be submitted at any time or in response to the stated agenda of planned meeting of the Board. All written statements shall be submitted to the DFO for the Board, and this individual will ensure that the written statements are provided to the membership for their consideration.

Dated: November 16, 2021.
Aaron T. Siegel,
Alternate OSD Federal Register, Liaison Officer, Department of Defense.

[FR Doc. 2021-25334 Filed 11-19-21; 8:45 am]

BILLING CODE 5001-06-P